DEPARTMENT OF COMMERCE

National Oceanic and Atmospheric Administration

[RTID 0648-XC378]

North Pacific Fishery Management Council; Public Meetings

AGENCY: National Marine Fisheries Service (NMFS), National Oceanic and Atmospheric Administration (NOAA), Commerce.

ACTION: Notice of public meetings.

SUMMARY: The North Pacific Fishery Management Council (Council) and its advisory committees will meet via hybrid conference October 3, 2022 through October 11, 2022.

DATES: The meetings will be held October 3, 2022 through October 11, 2022. See SUPPLEMENTARY INFORMATION for specific dates and times.

ADDRESSES: The meetings will be a hybrid conference. The in-person component of the meeting will be held at the Hilton Hotel, 500 W 3rd Ave., Anchorage, AK 99501, or join the meeting online through the links at https://www.npfmc.org/upcoming-council-meetings.

Council address: North Pacific Fishery Management Council, 1007 W 3rd Ave., Anchorage, AK 99501-2252; telephone: (907) 271-2809. Instructions for attending the meeting via webconference are given under Connection Information, below.

FOR FURTHER INFORMATION CONTACT: Diana Evans, Council staff; email: diana.evans@noaa.gov; telephone: (907) 271-2809. For technical support, please contact our Council administrative staff, email: npfmc.admin@noaa.gov.

SUPPLEMENTARY INFORMATION: The Council's Scientific and Statistical Committee (SSC) will begin at 8 a.m. in the Aleutian room on Monday, October 3, 2022, and continue through Wednesday, October 5, 2022. The Council's Advisory Panel (AP) will begin at 8 a.m. in the Denali room on Tuesday, October 4, 2022, and continue through Friday, October 7, 2022. The Council will begin at 8 a.m. in the Aleutian room on Thursday, October 6, 2022, and continue through Tuesday, October 11, 2022. The Ecosystem Committee will meet on Monday October 3, 2022 from 10 a.m. to 5 p.m. in the Denali room. All times listed are Alaska time.

Agenda

Monday, October 3, 2022

The Ecosystem Committee will meet to receive updates on the development of the Essential Fish Habitat (EFH) 5-year review, the Bering Sea Fishery Ecosystem Plan (FEP) Climate Change Taskforce report, and other updates on scoping and workshops. The Agenda is subject to change, and the latest version will be posted at: https://meetings.npfmc.org/Meeting/Details/2952.

Monday, October 3, 2022, Through Wednesday, October 5, 2022

The SSC agenda will include the following issues:

(1) Bering Sea and Aleutian Islands (BSAI) Crab specifications—(a) review Stock Assessment and Fishery Evaluation (SAFE) report; (b) adopt Acceptable Biological Catch (ABC)/Over Fishing Limits (OFLs) for Bristol Bay red king crab (BBRKC), Tanner crab, snow crab, Pribilof Island red king crab (PIRKC), St. Matthew blue king crab (SMBKC); (c) Crab Plan Team report; (d) Ecosystem Status Report preview; (e) snow crab rebuilding projections.

(2) Greenland turbot in longline pots—Initial Review.

(3) BSAI/Gulf of Alaska (GOA) Groundfish—(a) Proposed specifications; (b) Plan Team reports; (c) spatial management discussion papers (GOA demersal shelf rockfish (DSR), BSAI blackspotted/rougheye rockfish (BSRE)).

(4) Stock prioritization—review NMFS recommendations.

(5) BBRKC expanded discussion paper—review.

(6) Universal data collection components discussion paper—review.

(7) Amendment 80 program and allocation review—review workplan.

(8) Bering Sea Fishery Ecosystem Plan (BS FEP) Climate Change Taskforce Climate Readiness Synthesis Report—Review.

(9) Essential Fish Habitat—review preliminary components of 5-year review.

The agenda is subject to change, and the latest version will be posted at https://meetings.npfmc.org/Meeting/Details/2947 prior to the meeting, along with meeting materials.

In addition to providing ongoing scientific advice for fishery management decisions, the SSC functions as the Council's primary peer review panel for scientific information, as described by the Magnuson-Stevens Act section 302(g)(1)(e), and the National Standard 2 guidelines (78 FR 43066). The peer-review process is also deemed to satisfy the requirements of the Information Quality Act, including the Office of Management and Budget (OMB) Peer Review Bulletin guidelines.

Tuesday, October 4, 2022, Through Friday, October 7, 2022

The Advisory Panel agenda will include the following issues:

(1) Election of chair.

(2) Pacific cod small boat access—Final Action.

(3) Trawl EM analysis—Final Action.

(4) Greenland turbot in longline pots—Initial Review.

(5) BSAI Crab specifications—(a) review SAFE report; (b) adopt ABC/OFLs for BBRKC, Tanner crab, snow crab, PIRKC, SMBKC; (c) Crab Plan Team report; (d) PNCIAC report.

(6) BBRKC expanded discussion paper—review.

(7) BSAI/GOA Groundfish—(a) Proposed specifications, (b) Plan Team reports, (c) spatial management discussion papers (GOA DSR, BSAI BSRE).

(8) Stock prioritization—review NMFS recommendations.

(9) Universal data collection components discussion paper—review.

(10) Amendment 80 program and allocation review—workplan.

(11) Partial Coverage Fishery Monitoring Advisory Committee (PCFMAC) report—review.

(12) BS FEP Climate Change Taskforce—(a) Alaska Climate Integrated Modeling (ACLIM) and Intergovernmental Panel on Climate Change (IPCC) update, (b) Climate Readiness Synthesis Report—Review.

(13) Ecosystem Committee report—review.

(14) Staff Tasking.

Thursday, October 6, 2022, Through Tuesday, October 11, 2022

The Council agenda will include the following issues. The Council may take appropriate action on any of the issues identified.

(1) Swear in new members, election of officers.

(2) B Reports (Executive Director, NMFS Management, NOAA General Council (GC), Alaska Fisheries Science Center (AFSC), Alaska Department of Fish and Game (ADF&G), United States Coast Guard (USCG), United States Fish and Wildlife Service (USFWS), SSC report, AP report).

(3) BSAI Crab specifications—(a) review SAFE report; (b) adopt ABC/OFLs for BBRKC, Tanner crab, snow crab, PIRKC, SMBKC; (c) Crab Plan Team report; (d) PNCIAC report.

(4) Pacific cod small boat access—Final Action.

(5) Trawl EM analysis—Final Action.

(6) Greenland turbot in longline pots—Initial Review.

(7) BSAI/GOA Groundfish—(a) Proposed specifications, (b) Plan Team reports, (c) spatial management discussion papers (GOA DSR, BSAI BSRE).

(8) Stock prioritization—review NMFS recommendations.

(9) BBRKC expanded discussion paper—review paper and update on public responses to request for information.

(10) Universal data collection components discussion paper—review.

(11) Amendment 80 program and allocation review—workplan.

(12) PCFMAC report—review.

(13) BS FEP Climate Change Taskforce—(a) ACLIM and IPCC update, (b) Climate Readiness Synthesis Report—Review.

(14) Ecosystem Committee report—review.

(15) Staff Tasking.

Connection Information

You can attend the meeting online using a computer, tablet, or smart phone; or by phone only. Connection information will be posted online at: https://www.npfmc.org/upcoming-council-meetings. For technical support, please contact our administrative staff, email: npfmc.admin@noaa.gov.

If you are attending the meeting in-person, please refer to the COVID avoidance protocols on our website, https://www.npfmc.org/upcoming-council-meetings/.

Public Comment

Public comment letters will be accepted and should be submitted electronically through the links at https://www.npfmc.org/upcoming-council-meetings. The Council strongly encourages written public comment for this meeting, to avoid any potential for technical difficulties to compromise oral testimony. The written comment period is open from September 16, 2022, to September 30, 2022, and closes at 12 p.m. Alaska time on Friday, September 30, 2022.

Authority: 16 U.S.C. 1801 et seq.

Dated: September 12, 2022.
Rey Israel Marquez,
Acting Deputy Director, Office of Sustainable Fisheries, National Marine Fisheries Service.

[FR Doc. 2022-20054 Filed 9-15-22; 8:45 am]

BILLING CODE 3510-22-P